CONSUMER PRODUCT SAFETY COMMISSION

[Docket No. CPSC-2012-0024]

Agency Information Collection Activities; Extension of Collection; Comment Request; Notification Requirements for Coal and Wood Burning Appliances

AGENCY: Consumer Product Safety Commission.

ACTION: Notice of information collection; request for comment.

SUMMARY: As required by the Paperwork Reduction Act of 1995, the Consumer Product Safety Commission (CPSC or Commission) requests comments on a proposed extension of approval of information collection regarding notification requirements for coal and wood burning appliances. The Office of Management and Budget (OMB) previously approved the collection of information under control number 3041-0040. OMB's most recent extension of approval will expire on March 31, 2025. The Commission will consider all comments received in response to this notice before requesting an extension of this collection of information from OMB.

DATES: Submit comments on the collection of information by February 3, 2025.

ADDRESSES: You may submit comments, identified by Docket No. CPSC-2012-0024, within 60 days of publication of this notice by any of the following methods:

Electronic Submissions: Submit electronic comments to the Federal eRulemaking Portal at: http://www.regulations.gov. Follow the instructions for submitting comments. Do not submit through this website: confidential business information, trade secret information, or other sensitive or protected information that you do not want to be available to the public. The Commission typically does not accept comments submitted by email, except as described below.

Mail/Hand Delivery/Courier/Written Submissions: CPSC encourages you to submit electronic comments by using the Federal eRulemaking Portal. You may, however, submit comments by mail/hand delivery/courier to: Office of the Secretary, Consumer Product Safety Commission, 4330 East-West Highway, Bethesda, MD 20814; telephone (301) 504-7923.

Instructions: All submissions received must include the agency name and docket number for this notice. CPSC may post all comments without change, including any personal identifiers, contact information, or other personal information provided, to: http://www.regulations.gov. If you wish to submit confidential business information, trade secret information, or other sensitive or protected information that you do not want to be available to the public, you may submit such comments by mail, hand delivery, or courier, or you may email them to cpsc-os@cpsc.gov.

Docket: For access to the docket to read background documents or comments received, go to: https://www.regulations.gov, insert docket number CPSC-2012-0024 into the “Search” box, and follow the prompts.

FOR FURTHER INFORMATION CONTACT: Cynthia Gillham, Consumer Product Safety Commission, 4330 East-West Highway, Bethesda, MD 20814; (301) 504-7791, or by email to: pra@cpsc.gov.

SUPPLEMENTARY INFORMATION: CPSC seeks to renew the following currently approved collection of information:

Title: Notification Requirements for Coal and Wood Burning Appliances.

OMB Number: 3041-0040.

Type of Review: Renewal of collection.

Frequency of Response: On occasion.

Affected Public: Manufacturers and importers of coal and wood burning appliances.

Estimated Number of Respondents: We estimate five responses annually.

Estimated Time per Response: We estimate three hours per submission and 30 minutes for collecting and mailing the information to the CPSC.

Total Estimated Annual Burden: The total estimated annual burden is 17.5 hours (5 submissions × 3.5 hours).

Total Estimated Annual Cost to Respondents: The total estimated annualized respondent cost is approximately $795, based on an average total hourly employee compensation rate of $45.41 for private industry workers in goods producing industries (17.5 hours × $45.41 = $794.68) (U.S. Bureau of Labor Statistics, Employer Costs for Employee Compensation, Table 4, June 2024, https://www.bls.gov/news.release/archives/ecec_09102024.pdf.)

General Description of Collection: In 16 CFR part 1406, Coal and Wood Burning Appliances—Notification of Performance and Technical Data, issued under Section 27(e) of the Consumer Product Safety Act, 15 U.S.C. 2076(e), CPSC requires that certain performance and technical data be supplied on labeling attached to or accompanying each model of coal and wood burning stoves, freestanding fireplaces, similar appliances, and in instruction manuals provided with the appliances so consumers will be aware of important safety information concerning the installation, operation, and maintenance of these appliances. In addition, catalogs and other point-of-sale literature are required to contain appropriate clearances and other information.

The rule also contains a requirement that manufacturers provide to the Commission copies of the notice (label) and the directions (instruction manual). Manufacturers must also provide the Commission with a statement of the reasons supporting the manufacturer's conclusion that clearance distances stated in the notice to consumers are appropriate for preventing fires, for each stove model manufactured. This information must also be supplied when there is any change in the required data or when a new model is introduced.

All known manufacturers have already complied with the requirements for providing information in labels, manuals, catalogs, and point-of-sale literature and have met the requirements for submitting all labels and owner's manuals. For the known manufacturers, there should be no additional burden associated with the requirements of 16 CFR part 1406, except when existing models are changed, or new models are introduced. We anticipate that there will be no more than five submissions annually as a result of new stove models coming into the market or new firms entering the market.

Request for Comments:

The Commission solicits written comments from all interested persons about the proposed collection of information. The Commission specifically solicits information relevant to the following topics:

• whether the collection of information described above is necessary for the proper performance of the Commission's functions, including whether the information would have practical utility;

• whether the estimated burden of the proposed collection of information is accurate;

• whether the quality, utility, and clarity of the information to be collected could be enhanced; and

• whether the burden imposed by the collection of information could be minimized by use of automated, electronic or other technological collection techniques, or other forms of information technology.

Alberta E. Mills,
Secretary, Consumer Product Safety Commission.

[FR Doc. 2024-28243 Filed 12-2-24; 8:45 am]

BILLING CODE 6355-01-P